DEPARTMENT OF COMMERCE

International Trade Administration

[A-844-802]

Uranium From Uzbekistan; Final Results of Full Sunset Review of Suspended Antidumping Duty Investigation

AGENCY: Import Administration, International Trade Administration, Department of Commerce.

ACTION: Notice of final results of full sunset review: Uranium from Uzbekistan.

SUMMARY: On February 28, 2000, the Department of Commerce (“the Department”) published a notice of preliminary results of the full sunset review of the antidumping duty suspension agreement on uranium from Uzbekistan (65 FR 10471) pursuant to section 751(c) of the Tariff Act of 1930, as amended (“the Act”). We provided interested parties an opportunity to comment on our preliminary results. We received comments from both domestic and respondent interested parties. As a result of this review, the Department finds that revocation of the antidumping duty suspension agreement would likely lead to continuation or recurrence of dumping at the levels indicated in the Final Results of Review section of this notice.

EFFECTIVE DATE: July 5, 2000.

FOR FURTHER INFORMATION CONTACT: Kathryn B. McCormick or James Maeder, Office of Policy for Import Administration, International Trade Administration, U.S. Department of Commerce, 14th Street and Constitution Avenue, NW., Washington, DC 20230; telephone: (202) 482-1930 or (202) 482-3330, respectively.

SUPPLEMENTARY INFORMATION:

Statute and Regulations

This review was conducted pursuant to sections 751(c) and 752 of the Act. The Department's procedures for the conduct of sunset reviews are set forth in Procedures for Conducting Five-year (“Sunset”) Reviews of Antidumping and Countervailing Duty Orders, 63 FR 13516 (March 20, 1998) (“Sunset Regulations”) and in CFR part 351 (1999) in general. Guidance on methodological or analytical issues relevant to the Department's conduct of sunset reviews is set forth in the Department's Policy Bulletin 98.3—Policies Regarding the Conduct of Five-year (“Sunset”) Reviews of Antidumping and Countervailing Duty Orders; Policy Bulletin, 63 FR 18871 (April 16, 1998) (“Sunset Policy Bulletin”).

Background

On February 28, 2000, the Department of Commerce (“the Department”) published in the Federal Register a notice of preliminary results of the full sunset review of the antidumping duty investigation on uranium from Uzbekistan (65 FR 10471) pursuant to section 751(c) of the Tariff Act of 1930, as amended (“the Act”). In our preliminary results, we found that termination of the agreement suspending the antidumping duty investigation would likely result in continuation or recurrence of dumping at a weighted-average margin of 115.82 percent for all producers/exporters from Uzbekistan.

On March 24, 2000, we received a request from Navoi Mining and Metallurgical Combinat (“Navoi”) and the Government of Uzbekistan (“GOU”) (together, “respondent interested parties”) for an extension of time for filing rebuttal comments to case briefs until April 18, 2000. The Department agreed to extend the deadline to April 18, 2000.¹

¹ See April 4, 2000, Letter from Jeffrey A. May, Director, Office of Policy, to Carolyn B. Lamm, granting an extension for time for filing rebuttal comments to the case briefs.

On March 29, 2000, the Ad Hoc Committee of Domestic Uranium Producers (the “Ad Hoc Committee”), requested a hearing in this review. On April 14, 2000, the Ad Hoc Committee formally withdrew its March 29, 2000, request for a hearing in this review; therefore, the Department canceled the public hearing.

On April 10, 2000, we received case briefs on behalf of the Ad Hoc Committee, the Ad Hoc Utilities Group (“AHUG”),² and respondent interested parties. On April 18, 2000, within the deadline specified in 19 CFR 351.309(d), the Department received rebuttal comments from the Ad Hoc Committee and respondent interested parties.

² AHUG consists of U.S. industrial users Ameren UE, Baltimore Gas and Electric Co., Carolina Power and Light Co., Commonwealth Edison Co., Consumers Energy, Duke Power Co., Entergy Services, Ins., FirstEnergy Nuclear Operating Co., Florida Power and Light Co., Northern States Power Co., PECO Energy Co., Southern Nuclear Operating Co., Texas Utilities Electric Co., and Virginia Power.

Scope of Review

According to the June 3, 1992, preliminary determination the suspended investigation included natural uranium in the form of uranium ores and concentrates; natural uranium metal and natural uranium compounds; alloys, dispersions (including cermets), ceramic products, and mixtures containing natural uranium or natural uranium compound; uranium enriched in U²³⁵ and its compounds; alloys dispersions (including cermets), ceramic products and mixtures containing uranium enriched in U²³⁵ or compounds or uranium enriched in U²³⁵; and any other forms of uranium within the same class or kind. The uranium subject to these investigations was provided for under subheadings 2612.10.00.00, 2844.10.10.00, 2844.10.20.10, 2844.10.20.25, 2844.10.20.50, 2844.10.20.55, 2844.10.50, 2844.20.00.10, 2844.20.00.20, 2844.20.00.30, and 2844.20.00.50 of the Harmonized Tariff Schedule of the United States (“HTSUS”).³ In addition, the Department preliminarily determined that highly-enriched uranium (“HEU”) was not covered within the scope of the investigation, and that the subject merchandise constituted a single class or kind of merchandise.

³ See Preliminary Determination of Sales at Less Than Fair Value: Uranium from Kazakhstan, Kyrgyzstan, Russia, Tajikistan, Ukraine and Uzbekistan; and Preliminary Determination of Sales at Not Less Than Fair Value: Uranium from Armenia, Azerbaijan, Byelarus, Georgia, Moldova and Turkmenistan, 57 FR 23381, 23382 (June 3, 1992).

On October 30, 1992, the Department issued a suspension of the antidumping duty investigation of uranium from Uzbekistan and an amendment of the preliminary determination.⁴ The notice amended the scope of the investigation to include HEU.⁵ The suspension agreement provided that uranium ore from Uzbekistan that is milled into U3O8 and/or converted into UF6 in another country prior to direct and/or indirect importation into the United States is considered uranium from Uzbekistan and is subject to the terms of the Agreement.⁶ Further, uranium enriched in U²³⁵ in another country prior to direct and/or indirect importation into the United States was not considered uranium from Uzbekistan and was not subject to the terms of the suspension agreement.⁷ In this suspension agreement, imports of uranium ores and concentrates, natural uranium compounds, and all forms of enriched uranium are classifiable under HTSUS subheadings 2612.10.00, 2844.10.20, 2844.20.00, respectively. Imports of natural uranium metal and forms of natural uranium other than compounds were classifiable under HTSUS subheadings 2844.10.10 and 2844.44.10.50.

⁴ See Antidumping; Uranium from Kazakhstan, Kyrgyszstan, Russia, Tajikistan, Ukraine, and Uzbekistan; Suspension of Investigations and Amendment of Preliminary Determinations, 57 FR 49220 (October 30, 1992).

⁵ Id. at 49221.

⁶ Id. at 49255.

⁷ Id.

On October 13, 1995, the Department issued an amendment to the suspension agreement on uranium from Uzbekistan. Among other things, this amendment modifies the agreement to include Uzbek uranium enriched in a third country prior to importation into the United States.

Analysis of Comments Received

All issues raised in the case and rebuttal briefs by parties to this sunset review are addressed in the “Issues and Decision Memorandum” (“Decision Memo”) from Jeffrey A. May, Director, Office of Policy, Import Administration, to Troy H. Cribb, Acting Assistant Secretary for Import Administration, dated June 27, 2000, which is hereby adopted by this notice. The issues discussed in the attached Decision Memo include the likelihood of continuation or recurrence of dumping and the magnitude of the margin likely to prevail were the suspension investigation terminated. Parties can find a complete discussion of all issues raised in this review and the corresponding recommendations in this public memorandum which is on file in B-099.

In addition, a complete version of the Decision Memo can be accessed directly on the Web at www.ita.doc.gov/import admin/records/frn/, under the heading “Uzbekistan.” The paper copy and electronic version of the memo are identical in content.

Final Results of Review

We determine that revocation of the antidumping duty suspension agreement on uranium from Uzbekistan would be likely to lead to continuation or recurrence of dumping at the following percentage weighted-average margin:

Producers/Exporters | Margin percent
All Uzbek Producer/Exporters | 115.82

This notice serves as the only reminder to parties subject to administrative protective order (“APO”) of their responsibility concerning the disposition of proprietary information disclosed under APO in accordance with 19 CFR 351.305 of the Department's regulations. Timely notification of return/destruction of APO material or conversion to judicial protective order is hereby requested. Failure to comply with the regulations and the terms of an APO is a sanctionable violation.

This five-year (“sunset”) review and notice are in accordance with sections 751(c), 752, and 777(i)(1) of the Act.

Dated: June 27, 2000.
Troy H. Cribb,
Acting Assistant Secretary for Import Administration.

[FR Doc. 00-16949 Filed 7-5-00; 8:45 am]

BILLING CODE 3510-DS-P